DEPARTMENT OF EDUCATION

[CFDA No. 84.372]

Institute of Education Sciences; Notice Inviting Applications for Grants To Support Statewide Longitudinal Data Systems For Fiscal Year (FY) 2005

Summary: The Director of the Institute of Education Sciences (Institute) announces a competition for grants to support statewide longitudinal data systems. The Director takes this action under the Educational Technical Assistance Act of 2002 (Act), Title II of Pub. L. 107-279. The intent of these grants is to support the design, development, and implementation of statewide longitudinal data systems.

Supplementary Information:

Purpose of the Program: The purpose of the program is to provide financial assistance to State educational agencies (SEAs) for the development of longitudinal data systems to efficiently and accurately manage, analyze, disaggregate, and use individual student data, consistent with the Elementary and Secondary Education Act of 1965, as amended. These data systems will respond to the multiple information needs of key stakeholders, support State and local decision-making and facilitate needed research to improve student academic achievement and close achievement gaps.

Eligible Applicants: Eligible applicants are limited to SEAs.

Request for Applications and Other Information: Information regarding program and application requirements for this competition is contained in the Request for Applications package (RFA) that will be available on April 15, 2005 at the following Web site: http://www.ed.gov/programs/edresearch/applicant.html Interested potential applicants should periodically check the Institute's Web site.

Information regarding selection criteria and review procedures will also be posted at this Web site.

Letter of Intent: A letter indicating a potential applicant's intent to submit an application is optional but encouraged. The letter of intent must be submitted electronically by May 13, 2005, using the instructions provided at the following Web site: http://ies.constellagroup.com/. Receipt of the letter of intent will be acknowledged by e-mail.

Applications Available: April 15, 2005.

Deadline for Transmittal of Applications: 8 p.m. eastern time, June 30, 2005.

Estimated Range of Awards: $1,000,000 to $6,000,000 for the entire project.

Project Period: Up to three years.

Fiscal Information: The number of awards made under this competition will depend upon the quality of the applications received. The size of the awards will depend upon the scope of the projects proposed. Contingent upon the availability of funds and the quality of applications, we may make additional awards in FY 2006 from the list of unfunded applications from this competition.

Note: The Department is not bound by any estimates in this notice.

Applicable Regulations: The Education Department General Administrative Regulations (EDGAR) in 34 CFR parts 77, 80, 81, 82, 84, 85, 97, 98, and 99. In addition, 34 CFR part 75 is applicable, except for the provisions in 34 CFR 75.100, 75.101(b), 75.102, 75.103, 75.105, 75.109(a), 75.200, 75.201, 75.209, 75.210, 75.211, 75.217, 75.219, 75.220, 75.221, 75.222, and 75.230.

Performance Measures: To evaluate the overall success of this program, the Institute will determine at the end of each grant whether the SEA has in operation a statewide longitudinal data system. Grantees will be expected to report in annual and final reports on the status of their development and implementation of these systems.

Application Procedures: The Government Paperwork Elimination Act (GPEA) of 1998 (Pub. L. 105-277) and the Federal Financial Assistance Management Improvement Act of 1999 (Pub. L. 106-107) encourage us to undertake initiatives to improve our grant processes. Enhancing the ability of individuals and entities to conduct business with us electronically is a major part of our response to these Acts. Therefore, we are taking steps to adopt the Internet as our chief means of conducting transactions in order to improve services to our customers and to simplify and expedite our business processes.

We are requiring that applications for this competition be submitted electronically to the following Web site: http://ies.constellagroup.com. Information on the software to be used in submitting applications will be available at the same Web site.

For Further Information Contact: Kashka Kubzdela, U.S. Department of Education, National Center for Education Statistics, 1990 K Street, NW., room 9067, Washington, DC 20006. Telephone: (202) 502-7411 or via Internet: Kashka.Kubzdela@ed.gov.

The date on which applications will be available, the deadline for transmittal of applications, the estimated range of awards, and the project period will also be listed in the RFA for this competition that will be posted at: http://www.ed.gov/programs/edresearch/applicant.html.

If you use a telecommunications device for the deaf (TDD), you may call the Federal Relay Service (FRS) at 1-800-877-8339.

Individuals with disabilities may obtain this document in an alternative format (e.g., Braille, large print, audiotape, or computer diskette) on request to the program contact person listed in this section. Individuals with disabilities may obtain a copy of the RFA in an alternative format by contacting that person.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Program Authority: 20 U.S.C. 9607.

Dated: April 12, 2005.
Grover J. Whitehurst,
Director, Institute of Education Sciences.

[FR Doc. 05-7591 Filed 4-14-05; 8:45 am]

BILLING CODE 4000-01-P